POSTAL REGULATORY COMMISSION

Sunshine Act Meetings

Name of Agency: Postal Regulatory Commission

Time and Date: Tuesday, May 22, 2007 at 10 a.m.

Place: Commission conference room, 901 New York Avenue, NW., Suite 200, Washington, DC 20268-0001.

Status: Closed.

Matters to be Considered: 1. Personnel matters—selection of Inspector General. 2. Docket No. R2006-1—reconsideration of Standard Mail recommendation.

Contact Person for More Information: Stephen L. Sharfman, General Counsel, Postal Regulatory Commission, 901 New York Avenue, NW., Suite 200, Washington, DC 20268-0001, 202-789-6818.

Dated: May 17, 2007.
Steven W. Williams,
Secretary.

[FR Doc. 07-2556 Filed 5-17-07; 4:49 pm]

BILLING CODE 7710-FW-M